DEPARTMENT OF COMMERCE

International Trade Administration

Notice of Determination with Respect to Modification of Tariff Rate Quotas on the Import of Certain Worsted Wool Fabrics

AGENCY: International Trade Administration, Department of Commerce.

ACTION: The Department has recommended that no modification be made to the tariff rate quotas.

SUMMARY: The Department of Commerce has determined that the 2001 limitation on the quantity of imports of worsted wool fabrics that may be imported under the tariff rate quotas established by Title V of the Trade and Development Act of 2000 should not be modified.

FOR FURTHER INFORMATION CONTACT: Sergio Botero, Office of Textiles and Apparel, U.S. Department of Commerce, (202) 482-4058.

BACKGROUND:

Title V of the Trade and Development Act of 2000 (The Act) creates two tariff rate quotas, providing for temporary reductions in the import duties on two categories of worsted wool fabrics suitable for use in making suits, suit-type jackets, or trousers. For worsted wool fabric with average fiber diameters greater than 18.5 microns (new Harmonized Tariff Schedule of the United States (HTS) heading 9902.51.11), the reduction in duty is limited to 2,500,000 square meter equivalents per year. For worsted wool fabric with average fiber diameters of 18.5 microns or less (new HTS heading 9902.51.12), the reduction is limited to 1,500,000 square meter equivalents per year. Both these limitations may be modified by the President, not to exceed 1,000,000 square meter equivalents per year for each tariff rate quota.

The Act requires annual consideration of requests by U.S. apparel manufacturers for modification of the limitation on the quantity of fabric that may be imported under the tariff rate quotas, and grants the President the authority to proclaim modifications to the limitations. In determining whether to modify the limitations, specified U.S. market conditions with respect to worsted wool fabric and worsted wool apparel must be considered.

In Presidential Proclamation 7383, of December 1, 2000, the President authorized the Secretary of Commerce to determine whether the limitations on the quantity of imports of worsted wool fabrics under the tariff rate quotas should be modified and to recommend to the President that appropriate modifications be made.

On January 22, the Department published regulations establishing procedures for considering requests for modification of the limitations. 66 FR 6459, 15 C.F.R. 340. These procedures include an annual solicitation in the Federal Register of requests to modify the limitations, notice in the Federal Register of any such request(s) and a solicitation of public comments on such request(s).

The regulations provide that not more than 30 days following the close of the comment period, the Department will determine whether the limitations on the quantity of imports under the tariff rate quotas should be modified, and recommend to the President that appropriate modifications be made.

A request was received on April 13, 2001 from Hartmarx Corporation, on behalf of the Tailored Clothing Association, to increase the level of both 2001 tariff rate quotas by 1,000,000 square meter equivalents. On June 11, 2001, the Department solicited comments on the request and comments were received from eighteen companies and organizations.

After reviewing the request, the comments received, and other information obtained, including a report prepared by the U.S. International Trade Commission, and after considering the specific market conditions set forth in the Act, the Department has determined that the 2001 limitation on the quantity of imports of worsted wool fabrics that may be imported under the tariff rate quotas established by Title V of the Trade and Development Act of 2000 should not be modified. Accordingly, the Department has recommended to the President that no modification be made to the tariff rate quotas.

Dated: August 14, 2001
Linda M. Conlin,
Assistant Secretary for Trade Development, Department of Commerce.

[FR Doc. 01-21328 Filed 8-22-01; 8:45 am]

BILLING CODE 3510-DR-S